DEPARTMENT OF AGRICULTURE

Forest Service

Olympic Provincial Advisory Committee

AGENCY: Forest Service, USDA.

ACTION: Notice of meeting.

SUMMARY: The Olympic Provincial Advisory Committee (OPAC) will meet on Friday, August 15, 2003. The meeting will be held at the Forest Service Conference Room at the Forest Service Quinault office in Quinault, Washington. The meeting will begin at 9:30 a.m. and end at approximately 3 p.m. Agenda topics are: Current status of key Forest issues; Owl management update; Washington State Department of Natural Resources management on the Olympic Peninsula; Open forum; Public comments; and field trip to review two recently completed Secure Rural Schools and Community Self-Determination Act—Title II projects.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (306) 956-2301.

Dated: July 17, 2003.
Dale Hom,
Forest Supervisor, Olympic National Forest.

[FR Doc. 03-18676 Filed 7-22-03; 8:45 am]

BILLING CODE 3410-01-M